ENVIRONMENTAL PROTECTION AGENCY

[EPA-HQ-OPPT-2005-0064; FRL-7751-2]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from October 31, 2004 to November 7, 2005, consists of the PMNs and TME, both pending or expired, and the notices of commencement to manufacture a new chemical that the Agency has received under TSCA section 5 during this time period.

DATES: Comments identified by the docket ID number EPA-HQ-OPPT-2005-0064 and the specific PMN number or TME number, must be received on or before January 9, 2006.

ADDRESSES: Comments may be submitted electronically, by mail, or through hand delivery/courier. Follow the detailed instructions as provided in Unit I. of the SUPPLEMENTARY INFORMATION.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Copies of this Document and Other Related Information?

1. Docket. EPA has established an official public docket for this action under docket identification (ID) number EPA-HQ-OPPT-2005-0064. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744, and the telephone number for the OPPT Docket, which is located in the EPA Docket Center, is (202) 566-0280.

2. Electronic access. You may access this Federal Register document electronically through the EPA Internet under the “Federal Register” listings at http://www.epa.gov/fedrgstr/.

Agency Website: EDOCKET, EPA's electronic public docket and comment system was replaced on November 25, 2005 by an enhanced federal-wide electronic docket management and comment system located at http://www.regulations.gov/. Follow the on-line instructions.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and To Whom Do I Submit Comments?

You may submit comments electronically, by mail, or through hand delivery/courier. To ensure proper receipt by EPA, identify the appropriate docket ID number and specific PMN number or TME number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket/, and follow the online instructions for submitting comments. Once in the system, select “search,” and then key in docket ID number EPA-HQ-OPPT-2005-0064. The system is an “anonymous access” system, which means EPA will not know your identity, e-mail address, or other contact information unless you provide it in the body of your comment.

ii. E-mail. Comments may be sent by e-mail to oppt.ncic@epa.gov, Attention: Docket ID Number EPA-HQ-OPPT-2005-0064 and PMN Number or TME Number. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Document Control Office (7407M), Office of Pollution Prevention and Toxics (OPPT), Environmental Protection Agency, 1200 Pennsylvania Ave., NW., Washington, DC 20460-0001.

3. By hand delivery or courier. Deliver your comments to: OPPT Document Control Office (DCO) in EPA East Bldg., Rm. 6428, 1201 Constitution Ave., NW., Washington, DC. Attention: Docket ID Number EPA-HQ-OPPT-2005-0064 and PMN Number or TME Number. The DCO is open from 8 a.m. to 4 p.m., Monday through Friday, excluding legal holidays. The telephone number for the DCO is (202) 564-8930.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the technical person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket ID number assigned to this action and the specific PMN number you are commenting on in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from October 31, 2005 to November 7, 2005, consists of the PMNs and TME, both pending or expired, and the notices of commencement to manufacture a new chemical that the Agency has received under TSCA section 5 during this time period.

III. Receipt and Status Report for PMNs and TME

This status report identifies the PMNs and TME, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 19 Premanufacture Notices Received From: 10/31/05 to 11/07/05
Case No. | Received Date | Projected Notice End Date | Manufacturer/Importer | Use | Chemical
P-06-0103 | 11/01/05 | 01/29/06 | Rahn USA Corporation | (S) Uv/eb inks. The PMN substance acts as an initiator to start the polymerization of such blends.; uv/eb coatings. The PMN substance acts as an initiator to start the polymerization of such blends.; uv/eb fillers. the pmn substance acts as an initiator to start the polymerization of such blends.; uv/eb adhesives. The PMN substance acts as an initiator to start the polymerization of such blends.; uv/eb = ultra violet / electron beam reactive formulations | (G) Polyetherpolyol polymer with aromatic ketone
P-06-0104 | 11/01/05 | 01/29/06 | CBI | (G) Textile colorant | (G) Substituted sulfonated phenyl azo naphthalene
P-06-0105 | 11/01/05 | 01/29/06 | Sasol North America Inc. | (S) Recarburiser; specialty graphite; electrodes | (S) Coke (coal tar), low-temp., low-temp. gasification pitch, calcined. Definition: Coke produced by the calcination of green coke obtained from medium temperature coal tar pitch (produced during the gasification of bituminous coal at approximately 400 celsius (752 fahrenheit)). It is composed prdedominantly of carbon.
P-06-0106 | 11/02/05 | 01/30/06 | CBI | (G) Amino Cleaning Composition | (G) Amino-acid salt
P-06-0107 | 11/02/05 | 01/30/06 | Eastman Kodak Company | (G) Contained use in an article | (G) Aminophenyl substituted pyrazolone
P-06-0108 | 11/02/05 | 01/30/06 | CBI | (G) Lubricant additive | (G) Alkaryl sulfonic acid, metal salts
P-06-0109 | 11/02/05 | 01/29/06 | CBI | (G) Lubricant additive | (G) Alkaryl sulfonic acid, metal salts
P-06-0110 | 11/02/05 | 01/29/06 | CBI | (G) Lubricant additive | (G) Alkaryl sulfonic acid, metal salts
P-06-0111 | 11/02/05 | 01/29/06 | CBI | (G) Lubricant additive | (G) Alkaryl sulfonic acid, metal salts
P-06-0112 | 11/02/05 | 01/29/06 | CBI | (G) Lubricant additive | (G) Alkaryl sulfonic acid, metal salts
P-06-0113 | 11/02/05 | 01/30/06 | CBI | (G) Lubricant additive | (G) Alkaryl sulfonic acid, metal salts
P-06-0114 | 11/02/05 | 01/30/06 | CBI | (G) Lubricant additive | (G) Alkaryl sulfonic acid, metal salts
P-06-0115 | 11/02/05 | 01/30/06 | CBI | (G) Lubricant additive | (G) Alkaryl sulfonic acid, metal salts
P-06-0116 | 11/02/05 | 01/30/06 | CBI | (G) Lubricant additive | (G) Alkaryl sulfonic acid, metal salts
P-06-0117 | 11/04/05 | 02/01/06 | CBI | (G) Reactant | (G) Tidecanol
P-06-0118 | 11/07/05 | 02/04/06 | PPG Industries, Inc. | (G) Component of an industrial coating | (G) Cycloaliphatic carboxylic acid, alkyl substituted-, mixed esters with aliphatic carboxylic acid and alkylpolyol
P-06-0119 | 11/07/05 | 02/04/06 | BASF Corporation | (S) Component of multipurpose additive in gasoline | (G) Polyalkene, hydrogenated
P-06-0120 | 11/07/05 | 02/04/06 | CBI | (G) Colorant | (G) Naphthalenedisulfonic acid salt
P-06-0126 | 11/07/05 | 02/04/06 | CBI | (S) Fiber reactive dye for cellulosic fibers | (G) Substituted polycyclic-acid, ((((halo-((substituted)phenyl)amino) -heterocycle)amino-sulfophenyl)azo)-hydroxy-alkyl-substituted-, sodium salt

In Table II of this unit, EPA provides the following information (to the extent that such information is not claimed as CBI) on the TMEs received:

II. 1 Test Marketing Exemption Notices Received From: 10/31/05 to 11/07/05
Case No. | Received Date | Projected Notice End Date | Manufacturer/Importer | Use | Chemical
T-06-0001 | 11/07/05 | 12/21/05 | PPG Industries, Inc. | (G) Component of an industrial coating | (G) Cycloaliphatic carboxylic acid, alkyl substituted-, mixed esters with aliphatic carboxylic acid and alkylpolyol

In Table III of this unit, EPA provides the following information (to the extent that such information is not claimed as CBI) on the Notices of Commencement to manufacture received:

III. 17 Notices of Commencement From: 10/31/05 to 11/07/05
Case No. | Received Date | Commencement Notice End Date | Chemical
P-03-0334 | 11/01/05 | 10/20/05 | (G) Fatty acid polymer with alkyl diols, carbonic acid, isocyanic acid ester, alkoxylated polyether diolsulfonate, 2-oxepanone and alkyl diamine
P-04-0445 | 11/03/05 | 10/21/05 | (G) Acid amine salt
P-04-0694 | 11/04/05 | 11/02/05 | (G) Organic marker
P-04-0846 | 11/02/05 | 10/12/05 | (G) Polymer of vinyl heterocycles
P-04-0900 | 11/07/05 | 10/27/05 | (G) MDI based polyurethane polymer
P-04-0932 | 11/07/05 | 10/19/05 | (G) Toluene alkylate
P-05-0125 | 11/02/05 | 10/16/05 | (S) 9-octadecenamide, n-(trimethylsilyl)-, (9z)-(9ci)-
P-05-0128 | 11/02/05 | 10/16/05 | (S) Siloxanes and silicones, hydroxy me, 3-hydroxypropyl me, esters with hydrogenated tallow fatty acids, ethers with polyethylene-polypropylene glycol mono-bu ether
P-05-0326 | 11/02/05 | 10/03/05 | (S) Soybean oil, reaction products with ethaneperoxoic acid
P-05-0352 | 11/03/05 | 10/03/05 | (G) Sma imide polyquat salt
P-05-0544 | 10/31/05 | 10/12/05 | (S) Benzenepentanal, .alpha.-methyl-
P-05-0588 | 10/31/05 | 10/12/05 | (S) Cycloheptadecenone
P-05-0589 | 10/31/05 | 10/12/05 | (S) Cyclohexanol, 4-(3-methylbutyl)-
P-05-0606 | 11/03/05 | 10/26/05 | (S) Poly(oxy-1,2-ethanediyl), .alpha.,.alpha.′-[[(4-methylphenyl)imino]di-2,1-ethanediyl]bis[.omega.-hydroxy-
P-05-0682 | 11/03/05 | 10/27/05 | (G) Substituted alkyl sulfonic acid amino oxy homopolymer potassium salt
P-99-0337 | 11/01/05 | 10/27/05 | (G) Phenol-resin sulfonic acid, sodium salt
P-99-0614 | 11/02/05 | 10/20/05 | (G) Polyester modified isocyanate polymer

List of Subjects

Environmental protection, Chemicals, Premanufacturer notices.

Dated: November 22, 2005.
Carolyn Thorton,
Acting Director, Information Management Division, Office of Pollution Prevention and Toxics.

[FR Doc. 05-23788 Filed 12-8-05; 8:45 am]

BILLING CODE 6560-50-S